DEPARTMENT OF TRANSPORTATION

Federal Highway Administration

[Docket No. FHWA-2011-0094]

Agency Information Collection Activities: Notice of Request for Approval of a New Information Collection

AGENCY: Federal Highway Administration (FHWA), DOT.

ACTION: Notice of Request for the Renewal of a Previously Approved Collection.

SUMMARY: The FHWA invites public comments about our intention to request the Office of Management and Budget's (OMB) approval of a new information collection that is summarized below under SUPPLEMENTARY INFORMATION. We are required to publish this notice in the Federal Register by the Paperwork Reduction Act of 1995.

DATES: Please submit comments by November 7, 2011.

ADDRESSES: You may submit comments identified by DOT Docket ID Number 2011-0094 by any of the following methods:

Web Site: For access to the docket to read background documents or comments received, go to the Federal eRulemaking Portal: http://www.regulations.gov. Follow the online instructions for submitting comments.

Fax: 1-202-493-2251.

Mail: Docket Management Facility, U.S. Department of Transportation, West Building Ground Floor, Room W12-140, 1200 New Jersey Avenue, SE., Washington, DC 20590.

Hand Delivery or Courier: U.S. Department of Transportation, West Building Ground Floor, Room W12-140, 1200 New Jersey Avenue, SE., Washington, DC 20590, between 9 a.m. and 5 p.m. ET, Monday through Friday, except Federal holidays.

FOR FURTHER INFORMATION CONTACT: Silvio Cutuli, 202-366-2025, Planning, Environment, and Realty, Federal Highway Administration, Department of Transportation, 1200 New Jersey Avenue, SE., Washington, DC 20590, Monday through Friday, except Federal holidays.

SUPPLEMENTARY INFORMATION:

Title: Relocation Assistance and Real Property Acquisition Statistics Collection on Federal and Federally Assisted Programs.

Type of request: Renewal without change, of a previously approved collection.

Background: The statistics collected concerns acquisition of real property and relocation of displaced persons for Federal and federally-assisted programs. It tabulates the real property acquisition activity and residential and non-residential relocation activity on a state-by-state annual basis. The statistics collected consists of a count of: The number of parcels acquired; the number of parcels acquired through condemnation; the number of parcels acquired through administrative settlement; the total amounts paid, deposited in court or otherwise made available to a property owner; the number of households permanently displaced; the total amount paid for residential moving expenses; the total amount paid for replacement housing payments; the number of housing of last resort cases completed; the number of tenant households permanently displaced; the number of businesses, non-profit organizations and farms permanently displaced; the total amount paid for nonresidential moving expenses; the total amount paid for nonresidential reestablishment expenses; and the total number of relocation appeals.

Respondents: State highway agencies and local government highway agencies receiving financial assistance for expenditures of Federal Funds on acquisition and relocation payments and required services to displaced persons.

Frequency: Annually.

Estimated Number of Respondents: 1,460 for file maintenance and 52 state highway agencies for statistical reports.

Estimated Total Burden on Respondents: 25,000 hours.

Estimated Average Burden per Response: 17 hours.

Public Comments Invited: You are asked to comment on any aspect of this information collection, including: (1) Whether the proposed collection of information is necessary for the U.S. DOT's performance, including whether the information will have practical utility; (2) the accuracy of the U.S. DOT's estimate of the burden of the proposed information collection; (3) ways to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. Chapter 35, as amended; and 49 CFR 1.48.

Issued on: August 29, 2011.
Michael Howell,
Acting Chief, Management Programs and Analysis Division.

[FR Doc. 2011-22604 Filed 9-2-11; 8:45 am]

BILLING CODE 4910-22-P